DEPARTMENT OF LABOR

Employment and Training Administration

[TA-W-59,470]

ABN AMRO Mortgage Group, Ann Arbor, MI; Dismissal of Application for Reconsideration

Pursuant to 29 CFR 90.18(C) an application for administrative reconsideration was filed with the Director of the Division of Trade Adjustment Assistance for workers at ABN AMRO Mortgage Group, Ann Arbor, Michigan. The application did not contain new information supporting a conclusion that the determination was erroneous, and also did not provide a justification for reconsideration of the determination that was based on either mistaken facts or a misinterpretation of facts or of the law. Therefore, dismissal of the application was issued.

TA-W-59,470; ABN AMRO Mortgage Group, Ann Arbor, Michigan (August 7, 2006)

Signed at Washington, DC, this 9th day of August 2006.
Erica R. Cantor,
Acting Director, Division of Trade Adjustment Assistance.

[FR Doc. E6-13516 Filed 8-15-06; 8:45 am]

BILLING CODE 4510-30-P